FEDERAL COMMUNICATIONS COMMISSION

Notice of Public Information Collection(s) Being Reviewed by the Federal Communications Commission for Extension Under Delegated Authority

October 12, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments December 19, 2005. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1—C804, Washington, DC 20554.

FOR FURTHER INFORMATION CONTACT: For additional information about the information collection(s) send an e-mail to PRA@fcc.gov or contact Judith B. Herman at 202-418-0214.

SUPPLEMENTARY INFORMATION: OMB Control No.: 3060-0783.

Title: Section 90.176, Coordination Notification Requirements on Frequencies Below 512 MHz.

Form No.: N/A.

Type of Review: Extension of a currently approved collection.

Respondents: Business or other for profit.

Number of Respondents: 15 respondents; 3,900 responses.

Estimated Time Per Response: .50 hours.

Frequency of Response: On occasion reporting requirement and third party disclosure requirement.

Total Annual Burden: 1,950 hours.

Annual Cost Burden: N/A.

Privacy Act Impact Assessment: N/A.

Needs and Uses: Section 90.176 requires each Private Land Mobile frequency coordinator to provide, within one business day, a listing of their frequency recommendations to all other frequency coordinators in their respective pool, and, if requested, an engineering analysis. Any method can be used to ensure this compliance with the “one business day requirement” and must provide, at a minimum, the name of the applicant; frequency or frequencies recommended; antenna locations and heights; the effective radiated power; the type(s) of emission; the description of the service area; and the date and time of the recommendation. If a conflict in recommendations arises, the affected coordinators are jointly responsible for taking action to resolve the conflict, up to and including notifying the Commission that an application may have to be returned.

This requirement seeks to avoid situations where harmful interference is created because two or more coordinators recommend the same frequency in the same area at approximately the same time to different applicants.

After the 60 day comment period ends, the Commission will submit this information to OMB as an extension (no change in requirements) in order to obtain the full three year clearance.

OMB Control No.: 3060-0966.

Title: Sections 80.385, 80.475, and 90.303, Automated Marine Telecommunications Systems (AMTS).

Form No.: N/A.

Type of Review: Extension of a currently approved collection.

Respondents: Individuals or households; business or other for profit.

Number of Respondents: 20.

Estimated Time Per Response: .50 hours.

Frequency of Response: On occasion reporting requirement, third party disclosure requirement and recordkeeping requirement.

Total Annual Burden: 10 hours.

Annual Cost Burden: N/A.

Privacy Act Impact Assessment: Yes.

Needs and Uses: This collection will be submitted to OMB after the 60-day comment period as an extension (no change) to an existing collection. The reporting and recordkeeping requirements are for both Automated Marine Telecommunications Systems (AMTS) and amateur radio operators (or “ham operators”), who share AMTS spectrum. The AMTS is a specialized system of coast stations providing integrated and interconnected marine voice and data communications, somewhat like a cellular phone system for tugs, barges, and other vessels on these waterways. The amateur radio operators (“ham operators”) use some of the same frequencies (219-200 MHz) as AMTS stations on a secondary, non-interference basis for digital message forwarding systems. The reporting requirements, as established in 47 CFR 80.383 and 97.303 require amateur radio licensees (“ham operators”), who participate in point-to-point fixed digital message forwarding systems, such as intercity packet backbone networks, and who operate within 398 miles (640 kms) of an AMTS coast station, to notify the AMTS station in writing. The amateur radio licenses must provide: (1) Their station's specific geographic location for the transmission; and (2) their station's technical characteristics, including transmitter type, operating frequencies, emissions, transmitter output power, and antenna arrangement. This notification must be submitted at least 30 days prior to the initiation of the amateur radio licensee's operations in the 219-220 MHz band. In addition, under 47 CFR 80.475, applicants and licensees of AMTS coast stations must notify two organizations—the American Radio Relay League (ARRL) and the Interactive Systems, Inc. (ISI), of the location of the AMTS fill-in stations. ARRL and ISI maintain databases of AMTS locations for the benefit of amateur radio operators. These notification requirements insure that any amateur radio operator seeking to commence operations within close proximity of an AMTS station will not cause any interference to an AMTS licensee. Amateur radio licensees also must give the ARRL written notification of the geographic location of a station at least 30 days prior to transmitting in the 219-220 MHz band. As a “station in a secondary service”, amateur stations must accept any harmful interference from AMTS operations. Furthermore, under 47 CFR 80.475, AMTS licensees are permitted to operate fill-in stations. While no prior FCC authorization is required to construct and operate an AMTS fill-in station, at the time the station is added, the AMTS licensee must make a record of the station's technical and administrative information, and upon request, supply such information to the FCC. The station must also send notification of the station's location to the ARRL and the ISI. In general, the notification process(es) functions without the FCC's direct involvement, except as required by 47 CFR 80.475, the AMTS station licensee must maintain a record of the station's technical and administrative functions and also provide a copy to the FCC upon request. The records of amateur radio operators include information about individuals or households, and the use(s) and disclosure of this information is governed by the requirements of a system of records, FCC/WTB-1, “Wireless Services Licensing Records.” However, the FCC makes all information about amateur radio operators publicly available on its Universal Licensing System (ULS) Web page, except that the amateur operator's telephone number(s) and his/her e-mail address(es) are redacted. The public is entitled to download this public information, although ULS does not contain the locations of the amateur radio transmitters and information which amateur radio operators (“ham operators”) have to provide to ARRL and to the AMTS licensees.

Federal Communications Commission.
Marlene H. Dortch,
Secretary.

[FR Doc. 05-20840 Filed 10-18-05; 8:45 am]

BILLING CODE 6712-01-P